POSTAL REGULATORY COMMISSION

Sunshine Act Meetings

TIME AND DATE: Wednesday, April 6, 2011, at 11 a.m.

PLACE: Commission hearing room, 901 New York Avenue, NW., Suite 200, Washington, DC 20268-0001.

STATUS: Part of this meeting will be open to the public. The rest of the meeting will be closed to the public. The open part of the meeting will be audiocast. The audiocast can be accessed via the Commission's Web site at http://www.prc.gov.

MATTERS TO BE CONSIDERED: The agenda for the Commission's April 2011 meeting includes the items identified below.

Portions Open to the Public

1. Report on completion of advisory opinion on five-day delivery.

2. Report on completion of annual compliance determination.

3. Report on status of pending dockets before the Commission.

4. Report on international activities.

5. Report on legislative activities.

6. Report on improved public access to Commission archival records.

7. Report on Commission docket management procedures in the event of a government shutdown.

Portions Closed to the Public

8. Discussion of pending litigation.

9. Discussion of contractual matters involving sensitive business information—lease-related negotiations.

10. Discussion of information technology security implementation.

11. Discussion of confidential personnel matters—performance, records and practices.

CONTACT PERSON FOR MORE INFORMATION: Stephen L. Sharfman, General Counsel, Postal Regulatory Commission, 901 New York Avenue, NW., Suite 200, Washington, DC 20268-0001, at 202-789-6820 (for agenda-related inquiries) and Shoshana M. Grove, Secretary of the Commission, at 202-789-6800 or shoshana.grove@prc.gov (for inquiries related to meeting location, access for handicapped or disabled persons, the audiocast, or similar matters).

Dated: March 24, 2011.
By the Commission.
Shoshana M. Grove,
Secretary.

[FR Doc. 2011-7397 Filed 3-25-11; 11:15 am]

BILLING CODE 7710-FW-P